DEPARTMENT OF TRANSPORTATION

Office of the Secretary

[Docket No. DOT-OST-2015-0248]

Draft National Freight Strategic Plan: Notice of Deadline for Submitting Comments

ACTION: Notice of deadline for submitting comments.

SUMMARY: This notice announces a deadline for submitting comments on the draft National Freight Strategic Plan (NFSP) to the U.S. Department of Transportation (DOT) to satisfy requirements of the Moving Ahead for Progress in the 21st Century Act (MAP-21) and the Fixing America's Surface Transportation Act (FAST Act). On October 18, 2015, DOT released for public comment a draft NFSP (available at https://www.transportation.gov/sites/dot.gov/files/docs/DRAFT_NFSP_for_Public_Comment_508_10%2015%2015%20v1.pdf). The DOT intends to consider all comments received from the public when updating and finalizing the NFSP to be consistent with the FAST Act requirements.

DATES: Comments must be received on or before April 25, 2016 to receive full consideration by DOT with respect to the final NFSP.

ADDRESSES: Comments on the draft NFSP may be submitted and viewed at Docket Number DOT-OST-2015-0248. The web address is: http://www.regulations.gov/#!docketDetail;D=DOT-OST-2015-0248.

FOR FURTHER INFORMATION CONTACT: Vinn White, at (202) 366-9044 or email freight@dot.gov.

Additional Information

BACKGROUND: The MAP-21 (Pub. L. 112-141) required DOT to develop a NFSP that included (1) an assessment of the conditions and performance of the National Freight Network; (2) an identification of bottlenecks on the National Freight Network that create significant freight congestion; (3) forecasts of freight volumes; (4) an identification of major trade gateways and national freight corridors; (5) an assessment of statutory, regulatory, technological, institutional, financial, and other barriers to improved freight transportation performance, including a description of opportunities for overcoming the barriers; (6) an identification of corridors providing access to energy exploration, development, installation, or production areas; (7) an identification of best practices for improving the performance of the National Freight Network; (8) an identification of best practices to mitigate the impacts of freight movement on communities; (9) a process for addressing multistate projects and encouraging jurisdictions to collaborate; and (10) strategies to improve freight intermodal connectivity.

On October 18, 2015, the DOT issued the draft NFSP for public comment, available at www.transportation.gov/freight and also at http://www.regulations.gov/#!docketDetail;D=DOT-OST-2015-0248. At that time, the DOT requested comments on the draft NFSP but did not provide a specific date by which comments were due. To date, the DOT has received numerous comments from the public but understands that many in the public who plan to submit comments have been waiting for specific instructions about the end of the comment period.

On December 4, 2015, the President signed the FAST Act (Pub. L. 114-94) into law, before the draft NFSP could be finalized. Section 8001 of the FAST Act continues the requirement that the DOT develop an NFSP, generally requiring most of the same content for the NFSP as was required under MAP-21. The FAST Act specifically makes the NFSP multimodal in scope, links it to the National Multimodal Freight Network (NMFN) (created under the FAST Act) rather than the former National Freight Network created under MAP-21, and also requires the NFSP to include an identification of corridors providing access to major areas for manufacturing, agriculture, or natural resources and requires the DOT to provide notice and an opportunity for public comment.

The DOT is currently in the process of revising the October 18, 2015 draft NFSP to conform to the additional requirements of the FAST Act. Whereas the FAST Act allows the DOT to take up to two years from the date of the FAST Act's enactment to complete the NFSP, the DOT intends to make use of the work already completed on the October 18, 2015 draft NFSP, as modified by comments received from the public on that draft and the new FAST Act provisions, to issue a fully compliant National Freight Strategic Plan in final format by the end of July 2016. To do so, the DOT is asking the public to submit comments on the October 18, 2015 draft NFSP on or before [45 days from posting of this notice] to receive full consideration by DOT with respect to the final NFSP. Commenters are encouraged to address any aspects of the draft NFSP or the FAST Act that they believe should be reflected in the final National Freight Strategic Plan. All comments on the draft NFSP that have already been submitted to DOT will be transferred to this docket and will receive full consideration by the DOT with respect to the NFSP to be issued by the end of July 2016. Commenters who have already responded prior to this notice are also free to update or replace their previous comments.

The DOT is also working to establish an Interim National Multimodal Freight Network (NMFN) that is due 180 days following the enactment date of the FAST Act, which would be on June 1, 2016. The NMFN will be similar in concept to the draft multimodal freight network that was issued as part of the October 18, 2015 draft NFSP, but will now be handled as a separate product from the NFSP. The DOT will publish a separate Federal Register notice on or about June 1, 2016 requesting public comment on the Interim NMFN. The NFSP will reference the NMFN but not include it. All comments on the draft NFSP that pertain to the multimodal freight network included in the draft NFSP will receive full consideration by the DOT with respect to the development of the Interim Final Multimodal Freight Network.

Public Comment: The DOT invites comments by all those interested in the draft National Freight Strategic Plan. Comments on the draft NFSP may be submitted and viewed at Docket Number DOT-OST-2015-0248. The web address is: http://www.regulations.gov/#!docketDetail;D=DOT-OST-2015-0248. Comments must be received on or before [45 days from posting of this notice] to receive full consideration by DOT with respect to the final NFSP. After [45 days from posting of this notice], comments will continue to be available for viewing by the public.

Dated: March 3, 2016.
Vinn White,
Deputy Assistant Secretary for Transportation Policy.

[FR Doc. 2016-05370 Filed 3-9-16; 8:45 am]

BILLING CODE 4910-9X-P